DEPARTMENT OF HEALTH AND HUMAN SERVICES

Centers for Disease Control and Prevention

[Docket No. CDC-2026-0133, NIOSH-356]

National Institute for Occupational Safety and Health (NIOSH) Center for Firefighter Safety, Health and Well-Being Portfolio; Request for Information

AGENCY: Centers for Disease Control and Prevention (CDC), Department of Health and Human Services (HHS).

ACTION: Request for information.

SUMMARY: The Centers for Disease Control and Prevention's (CDC) National Institute for Occupational Safety and Health (NIOSH), in the Department of Health and Human Services, requests public input on priority topics related to firefighter safety and health. Through its Center for Firefighter Safety, Health, and Well-Being, NIOSH conducts research and provides services to identify and help prevent new and emerging hazards in the fire service earlier and faster. As the threat from structural, wildland urban interface, and wildland fires grows, NIOSH seeks input to help refine its existing research and engagement priorities. This request is for information-gathering purposes and does not propose new regulations, requirements, or policies.

DATES: Comments must be received on or before April 3, 2026.

ADDRESSES: Submit comments by either of the following methods:

• Federal eRulemaking Portal: https://www.regulations.gov. Follow the instructions for submitting comments.

• Mail: NIOSH Docket Office, Robert A. Taft Laboratories, MS C-34, 1090 Tusculum Avenue, Cincinnati, Ohio 45226-1998.

Instructions: All written submissions received in response to this document must include the agency name and docket number (CDC-2026-0133 NIOSH-356) for this activity. All relevant comments, including any personal information provided, will be posted without change to https://www.regulations.gov. Do not submit comments by email.

FOR FURTHER INFORMATION CONTACT: Lauralynn McKernan, 1090 Tusculum Ave., MS R-14, Cincinnati, OH 45226; Telephone (513) 533-8542 (this is not a toll-free number); Email NIOSHregs@cdc.gov.

SUPPLEMENTARY INFORMATION: NIOSH has decades of experience conducting investigations and research on firefighter safety and health. The NIOSH Center for Firefighter Safety, Health, and Well-Being provides a central point for engaging with the broad spectrum of research and service NIOSH conducts around firefighters. The goal of the Center is to protect firefighters by identifying new and emerging hazards in the fire service so that those hazards can be prevented earlier and faster. Firefighters are vital to the safety of our communities. While on duty, firefighters may experience acute events such as injuries, heart attacks, and fatalities. Over time, firefighters are at risk of cancer and other chronic diseases.

Protecting firefighters' safety and health is a top priority for NIOSH. NIOSH works closely with other federal agencies, researchers, and fire-service leaders and organizations to improve firefighter safety and health. As the threat from structural, wildland urban interface (WUI), and wildland fires grows, both firefighters and other workers face risks from fire-related exposures, such as smoke inhalation, post-fire clean-up activities, and hazardous materials. NIOSH is currently engaged in the following firefighter safety and health activities:

• Services: NIOSH offers a range of vital services to enhance firefighter safety and health, including:

a. National Firefighter Registry (NFR) for Cancer: Actively enrolling firefighters to understand and reduce cancer risk.

b. NIOSH Respirator Approval Program (RAP): Evaluating the safety of respirators and PPE used by firefighters.

c. Health Hazard Evaluation (HHE) Program: Assessing work-related health hazards to improve worker safety and health.

d. World Trade Center Health Program (WTC Health Program): Providing healthcare to 9/11 responders and supporting internal and extramural grant research into WTC-related health conditions and treatment.

e. Fire Fighter Fatality Investigation and Prevention Program (FFFIPP): Investigating line-of-duty deaths and serious injuries to improve safety and prevent future incidents.

f. Emergency Response Support: Enhancing preparedness and response for both natural disasters and manmade crises, supporting communities with resources and tools.

• Cancer Prevention: NIOSH has a variety of activities and research to understand and reduce the risk of cancer in the fire industry, including the NFR, the largest effort ever undertaken to understand and reduce the risk of cancer among U.S. firefighters.

• Research: NIOSH conducts research to enhance the health and safety of structural and wildland firefighters. By assessing exposures related to materials burned, fire conditions, and substances encountered such as PFAS in firefighting foam, as well as ways to prevent injury and illnesses, NIOSH continues to be at the forefront of firefighter safety and health research.

• Personal Protective Equipment (PPE): NIOSH evaluates the safety of PPE for structural and wildland firefighters—including respirators and turnout gear—through comprehensive research, evaluations, and the NIOSH Respirator Approval Program, safeguarding the health and safety of all responders.

• Partnerships: NIOSH collaborates with federal agencies, researchers, fire-service leaders, and organizations to better understand the safety and health needs of firefighters and maximize the impact of NIOSH research and activities.

• Resources: NIOSH develops resources and tools to support firefighters and first responders in performing their duties safely and effectively in hazardous environments.

We are seeking additional input on the NIOSH priorities, research portfolio, and service activities to help protect the firefighters and other workers who face risks from fire-related exposures, injuries, illnesses, and fatalities. Please consider addressing these questions or provide other comments you deem relevant.

(1) How can NIOSH best leverage these priority topics to help improve firefighter safety, health, and well-being and address potential challenges?

(2) What priorities, research areas and service activities could be expanded?

(3) How can NIOSH best partner with fire service organizations and related stakeholder organizations to achieve these priorities?

John J. Howard,
Director, National Institute for Occupational Safety and Health, Centers for Disease Control and Prevention, Department of Health and Human Services.

[FR Doc. 2026-01935 Filed 1-30-26; 8:45 am]

BILLING CODE 4163-18-P